DEPARTMENT OF DEFENSE

Office of the Secretary

[Docket ID: DoD-2013-OS-0170]

Proposed Collection; Comment Request

AGENCY: White House Communications Agency (WHCA), DoD.

ACTION: Notice.

In compliance with Section 3506(c)(2)(A) of the Paperwork Reduction Act of 1995, the White House Communications Agency (WHCA) announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by October 7, 2013

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the White House Communications Agency (WHCA/WACC/ISD), ATTN: Chris Cothran, 2743 Defense Boulevard, SW Washington, DC 20373-5815.

Title; Associated Form; and OMB Number: DefenseReady; OMB Control Number 0704-TBD.

Needs and Uses: The information collection requirement is necessary to obtain, track and record the personnel security data, training information and travel history within White House Military Office (WHMO) and White House Communications Agency (WHCA).

Affected Public: DoD Contractors, retired military members, and agency visitors.

Annual Burden Hours: 38.

Number of Respondents: 150.

Responses per Respondent: 1.

Average Burden Per Response: 15 minutes.

Frequency: On occasion.

SUPPLEMENTARY INFORMATION:

Summary of Information Collection

Respondents are DoD Contractors, retired military members who have departed the agency, and agency visitors. The data collected is used for security background checks, training records and also to encompass the historical travel records of members of the agency. This data collection is essential in maintaining the integrity of the agency's personnel, training, and travel programs.

Dated: August 1, 2013.
Aaron Siegel,
Alternate OSD Federal Register Liaison Officer, Department of Defense.

[FR Doc. 2013-18991 Filed 8-6-13; 8:45 am]

BILLING CODE 5001-06-P